DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before November 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by email at PRA@treasury.gov or the entire information collection request may be found at www.reginfo.gov.

SUPPLEMENTARY INFORMATION:

Internal Revenue Service (IRS)

OMB Number: 1545-0022.

Type of Review: Extension without change of a previously approved collection.

Title: Life Insurance Statement.

Form: 712.

Abstract: Form 712 is used to establish the value of life insurance policies for estate and gift tax purposes. The tax is based on the value of these policies. The form is completed by life insurance companies.

Affected Public: Private Sector: Businesses or other for-profits.

Estimated Annual Burden Hours: 1,120,200.

OMB Number: 1545-0202.

Type of Review: Extension without change of a previously approved collection.

Title: Form 5310, Application for Determination for Terminating Plan; Form 6088, Distributable Benefits from Employee Pension Benefit Plans.

Form: 5310, 6088.

Abstract: Employers who have qualified deferred compensation plans can take an income tax deduction for contributions to their plans. IRS uses the data on Forms 5310 and 6088 to determine whether a plan still qualifies and whether there is any discrimination in benefits.

Affected Public: Private Sector: Businesses or other for-profits.

Estimated Annual Burden Hours: 1,718,300.

OMB Number: 1545-0770.

Type of Review: Extension without change of a previously approved collection.

Title: Transfers of Securities Under Certain Agreements.

Abstract: Section 1058 of the Internal Revenue Code provides tax-free treatment for transfers of securities pursuant to a securities lending agreement. The agreement must be in writing and is used by the taxpayer, in a tax audit situation, to justify no recognition treatment of gain or loss on the exchange of the securities.

Affected Public: Private Sector: Businesses or other for-profits.

Estimated Annual Burden Hours: 9,781.

OMB Number: 1545-1049.

Type of Review: Revision of a previously approved collection.

Title: Excise Tax Relating to Gain or Other Income Realized by Any Person on Receipt of Greenmail.

Form: 8725.

Abstract: The regulations provide rules relating to the manner and method of reporting and paying the nondeductible 50 percent excise tax imposed by section 5881 of the Internal Revenue Code with respect to the receipt of greenmail. The reporting requirements will be used to verify that the excise tax imposed under section 5881 is properly reported and timely paid. Form 8725 is used by persons who receive “greenmail” to compute and pay the excise tax on greenmail imposed under Internal Revenue Code section 5881. IRS uses the information to verify that the correct amount of tax has been reported.

Affected Public: Private Sector: Businesses or other for-profits.

Estimated Annual Burden Hours: 8,321,755.

OMB Number: 1545-1120.

Type of Review: Extension without change of a previously approved collection.

Title: TD 8352 (temp & final) Final Regulations Under Sections 382 and 383 of the Internal Revenue Code of 1986; Pre-change Attributes; TD 8531 (Final) Final Regulations Under Section 382.

Abstract: (CO-69-87 and CO-68-87) These regulations require reporting by a corporation after it undergoes an “ownership change” under sections 382 and 383. Corporations required to report under these regulations include those with capital loss carryovers and excess credits. (CO-18-90) These regulations provide rules for the treatment of options under IRC section 382 for purposes of determining whether a corporation undergoes an ownership change. The regulation allows for certain elections for corporations whose stock is subject to options.

Affected Public: Private Sector: Businesses or other for-profits.

Estimated Annual Burden Hours: 220,575.

OMB Number: 1545-1233.

Type of Review: Extension without change of a previously approved collection.

Title: Adjusted Current Earnings (IA-14-91)(Final).

Abstract: This regulation affects business and other for profit institutions. This information is required by the IRS to ensure the proper application of section 1.56(g)-1 of the regulation. It will be used to verify that taxpayers have properly elected the benefits of section 1.56(g)-1(r) of the regulation.

Affected Public: Private Sector: Businesses or other for-profits.

Estimated Annual Burden Hours: 1,000.

OMB Number: 1545-1254.

Type of Review: Extension without change of a previously approved collection.

Title: TD 8396—Conclusive Presumption of Worthlessness of Debts Held by Banks (FI-34-91).

Abstract: Paragraph (d)(3) of section 1.166-2 of the regulations allows banks and thrifts to elect to conform their tax accounting for bad debts with their regulatory accounting. An election or revocation thereof, is a change in method of accounting. The collection of information required in section 1.166-2(d)(3) is necessary to monitor the elections.

Affected Public: Private Sector: Businesses or other for-profits.

Estimated Annual Burden Hours: 50.

OMB Number: 1545-1347.

Type of Review: Revision of a previously approved collection.

Title: Arbitrage Bond Restrictions under section 148.

Abstract: Section 148 was enacted to minimize the arbitrage benefits from investing gross proceeds of tax-exempt bonds in higher yielding investments and to remove the arbitrage incentives to issue more bonds, to issue bonds earlier, or to leave bonds outstanding longer than is otherwise reasonably necessary to accomplish the governmental purposes for which the bonds were issued. To accomplish these purposes, section 148 restricts the direct and indirect investment of bond proceeds in higher yielding investments and requires that certain earnings on higher yielding investments be rebated to the United States. Violation of these provisions causes the bonds in the issue to become arbitrage bonds, the interest on which is not excludable from the gross income of the owners under section 103(a). The regulations in §§ 1.148-1 through 1.148-11 apply in a manner consistent with these purposes.

Section 148 of the Internal Revenue Code requires issuers of tax-exempt bonds to rebate certain arbitrage profits earned on non-purpose investments acquired with the bond proceeds. Issuers are required to file a Form 8038-T and remit the rebate. Issuers are also required to keep records of certain interest rate hedges so that the hedges are taken into account in determining arbitrage profits. The scope of interest rate hedging transactions covered by the arbitrage regulations was broadened by requiring that hedges entered into prior to the sale date of the bonds are covered as well.

Affected Public: Private Sector: Businesses or other for-profits.

Estimated Annual Burden Hours: 56,684.

OMB Number: 1545-1412.

Type of Review: Revision of a previously approved collection.

Title: FI-54-93 (Final) Clear Reflection of Income in the Case of Hedging Transactions.

Abstract: This information is required by the Internal Revenue Service to verify compliance with section 446 of the Internal Revenue Code. This information will be used to determine that the amount of tax has been computed correctly.

Affected Public: Private Sector: Businesses or other for-profits.

Estimated Annual Burden Hours: 20,000.

OMB Number: 1545-1503.

Type of Review: Revision of a previously approved collection.

Title: Revenue Procedure 2015-41 (Formerly 2006-9)—Section 482—Allocation of Income and Deductions Among Taxpayers.

Abstract: The information requested is required to enable the Internal Revenue Service to give advice on filing Advance Pricing Agreement applications, to process such applications and negotiate agreements, and to verify compliance with agreements and whether agreements require modification.

Affected Public: Private Sector: Not-for-profit institutions; Individuals or Households.

Estimated Annual Burden Hours: 10,900.

OMB Number: 1545-1504.

Type of Review: Extension without change of a previously approved collection.

Title: Request for Taxpayer Advocate Service Assistance (And Application for Taxpayer Assistance Order).

Form: 911.

Abstract: This form is used by taxpayers to apply for relief from a significant hardship which may have already occurred or is about to occur if the IRS takes or fails to take certain actions. This form is submitted to the IRS Taxpayer Advocate Office in the state or city where the taxpayer lives.

Affected Public: Individuals or Households.

Estimated Annual Burden Hours: 46,500.

OMB Number: 1545-1510.

Type of Review: Extension without change of a previously approved collection.

Title: Revenue Procedure 2004-53; Procedure for filing Forms W-2 is certain Acquisitions (Rev Proc 96-60).

Abstract: Information is required by the Internal Revenue Service to assist predecessor and successor employers in complying with the reporting requirements under Code sections 6051 and 6011 for Forms W-2 and 941.

Affected Public: Private Sector: Businesses or other for-profits.

Estimated Annual Burden Hours: 110,700.

OMB Number: 1545-1516.

Type of Review: Extension without change of a previously approved collection.

Title: Entity Classification Election.

Form: 8832.

Abstract: An eligible entity uses Form 8832 to elect how it will be classified for federal tax purposes, as a corporation, a partnership, or an entity disregarded as separate from its owner. An eligible entity is classified for federal tax purposes under the default rules unless it files Form 8832 or Form 2553, Election by a Small Business Corporation. The IRS will use the information entered on this form to establish the entity's filing and reporting requirements for federal tax purposes.

Affected Public: Private Sector: Businesses or other for-profits.

Estimated Annual Burden Hours: 35,900.

OMB Number: 1545-1530.

Type of Review: Extension without change of a previously approved collection.

Title: Rev. Proc. 2007-32—Tip Rate Determination Agreement (Gaming Industry); Gaming Industry Tip Compliance Agreement Program.

Form: 8832.

Abstract: Tip Rate Determination Agreement (Gaming Industry) Information is required by the Internal Revenue Service in its Compliance efforts to assist employers and their employees in understanding and complying with section 6053(a), which requires employees to report all their tips monthly to their employers. Gaming Industry Tip Compliance Agreement Program Taxpayers who operate gaming establishments may enter into an agreement with the Internal Revenue Service to establish tip rates and occupational categories for all tipped employees of the taxpayer. The agreements will require substantiation of the tip rates as well.

Affected Public: Private Sector: Businesses or other for-profits.

Estimated Annual Burden Hours: 10,467.

OMB Number: 1545-1540.

Type of Review: Extension without change of a previously approved collection.

Title: REG-125071-06 (TD 9308) Reporting Requirements for Widely Held Fixed Investment Trusts.

Abstract: The regulations clarify the reporting requirements of trustees and middlemen involved with widely held fixed investment trusts.

Affected Public: Private Sector: Businesses or other for-profits.

Estimated Annual Burden Hours: 2,400.

OMB Number: 1545-1667.

Type of Review: Extension without change of a previously approved collection.

Title: Revenue Procedure 99-50, Combined Information Reporting.

Abstract: The revenue procedure permits combined information reporting by a successor “business entity” (i.e., a corporation, partnership, or sole proprietorship) in certain situations following a merger or an acquisition. The successor must file a statement with the Internal Revenue Service indicating what forms are being filed on a combined basis.

Affected Public: Private Sector: Businesses or other for-profits.

Estimated Annual Burden Hours: 500.

OMB Number: 1545-1676.

Type of Review: Extension without change of a previously approved collection.

Title: REG-113572-99 (TD 8933) Qualified Transportation Fringe Benefits.

Abstract: These regulations provide guidance to employers that provide qualified transportation fringe benefits under section 132(f), including guidance to employers that provide cash reimbursement for qualified transportation fringes and employers that offer qualified transportation fringes in lieu of compensation. Employers that provide cash reimbursement are required to keep records of documentation received from employees who receive reimbursement. Employers that offer qualified transportation fringes in lieu of compensation are required to keep records of employee compensation reduction elections.

Affected Public: Private Sector: Businesses or other for-profits.

Estimated Annual Burden Hours: 12,968,728.

OMB Number: 1545-1678.

Type of Review: Extension without change of a previously approved collection.

Title: REG-161424-01 (Final), Information Reporting for Qualified Tuition and Related Expenses; Magnetic Media Filing Requirements for Information Returns; REG-105316-98 (Final) Information.

Abstract: These regulations relate to the information reporting requirements in section 6050S of the Internal Revenue Code for payments of qualified tuition and related expenses and interest on qualified education loans. These regulations provide guidance to eligible education institutions, insurers, and payees required to file information returns and to furnish information statements under section 6050S.

Affected Public: Private Sector: Not-for-profit institutions.

Estimated Annual Burden Hours: 1.

OMB Number: 1545-1810.

Type of Review: Extension without change of a previously approved collection.

Title: Credit for Small Employer Pension Plan Startup Costs.

Abstract: Qualified small employers use Form 8881 to request a credit for start-up costs related to eligible retirement plans. Form 8881 implements section 45E, which provides a credit based on costs incurred by an employer in establishing or administering an eligible employer plan or for the retirement related education of employees with respect to the plan. The credit is 50 percent of the qualified costs for the tax year, up to a maximum credit of $500 for the first tax year and each of the two subsequent tax years.

Affected Public: Private Sector: Businesses or other for-profits.

Estimated Annual Burden Hours: 235,335.

OMB Number: 1545-1815.

Type of Review: Revision of a previously approved collection.

Title: Coverdell ESA Contribution Information.

Form: 5498-ESA.

Abstract: Form 5498-ESA is used by trustees and issuers of Coverdell Education Savings accounts to report contributions made to these accounts to beneficiaries.

Affected Public: Private Sector: Businesses or other for-profits.

Estimated Annual Burden Hours: 46,392.

OMB Number: 1545-1820.

Type of Review: Extension without change of a previously approved collection.

Title: Revenue Procedure 2003-33, Section 9100 Relief for 338 Elections.

Abstract: Pursuant to Sec. 301.9100-3 of the Procedure and Administration Regulations, this procedure grants certain taxpayers an extension of time to file an election described in Sec. 338(a) or Sec. 338(h)(10) of the Internal Revenue Code to treat the purchase of the stock of a corporation as an asset acquisition.

Affected Public: Private Sector: Businesses or other for-profits.

Estimated Annual Burden Hours: 300.

OMB Number: 1545-1843.

Type of Review: Extension without change of a previously approved collection.

Title: TD 9207 (final)—Assumptions of Partner Liabilities; REG-106736-00 (NPRM).

Abstract: In order to be entitled to a deduction with respect to the economic performance of a contingent liability that was contributed by a partner and assumed by a partnership, the partner, or former partner of the partnership, must receive notification of economic performance of the contingent liability from the partnership or other partner assuming the liability.

Affected Public: Private Sector: Businesses or other for-profits.

Estimated Annual Burden Hours: 125.

OMB Number: 1545-1980.

Type of Review: Extension without change of a previously approved collection.

Title: Notice 2007-70—Charitable Contributions of Certain Motor Vehicles, Boats, and Airplanes; Reporting requirements under Sec. 170(f)(12)(D).

Abstract: Charitable organizations are required to send an acknowledgement of car donations to the donor and to the Service. The purpose of is to prevent donors from taking inappropriate deductions.

Affected Public: Private Sector: Not-for-profit institutions.

Estimated Annual Burden Hours: 21,930.

OMB Number: 1545-1982.

Type of Review: Extension without change of a previously approved collection.

Title: Distilled Spirits Credit.

Form: 8906.

Abstract: Form 8906, Distilled Spirits Credit, was developed to carry out the provisions of IRC section 5011(a). This section allows eligible wholesalers and persons subject to IRC section 5055 an income tax credit for the average cost of carrying excise tax on bottled distilled spirits. The new form provides a means for the eligible taxpayer to compute the amount of credit.

Affected Public: Private Sector: Businesses or other for-profits.

Estimated Annual Burden Hours: 21,930.

OMB Number: 1545-1994.

Type of Review: Extension without change of a previously approved collection.

Title: Notice 2008-36—Amplification of Notice 2006-28, Energy Efficient Homes Credit; Manufactured Homes.

Abstract: This notice supersedes Notice 2006-28 by substantially republishing the guidance contained in that publication. This notice clarifies the meaning of the terms equivalent rating network and eligible contractor, and permits calculation procedures other than those identified in Notice 2006-28 to be used to calculate energy consumption. Finally, this notice clarifies the process for removing software from the list of approved software and reflects the extension of the tax credit through December 31, 2008. Notice 2006-28, as updated, provided guidance regarding the calculation of heating and cooling energy consumption for purposes of determining the eligibility of a manufactured home for the New Energy Efficient Home Credit under Internal Revenue Code § 45L. Notice 2006-28 also provided guidance relating to the public list of software programs that may be used to calculate energy consumption. Guidance relating to dwelling units other than manufactured homes is provided in Notice 2008-35.

Affected Public: Individuals or Households.

Estimated Annual Burden Hours: 60.

OMB Number: 1545-2109.

Type of Review: Revision of a previously approved collection.

Title: Notice of Election of an Agreement to Special Lien Under Internal Revenue Code Section 6324A and Regulations.

Abstract: Under IRC section 6166, an estate may elect to pay the estate tax in installments over 14 years if certain conditions are met. If the IRS determines that the government's interest in collecting estate tax is sufficiently at risk, it may require the estate provide a bond. Alternatively, the executor may elect to provide a lien in lieu of bond. Under section 6324A(c), to make this election the executor must submit a lien agreement to the IRS. Form 13925 is a form lien agreement that executors may use for this purpose.

Affected Public: Individuals or Households.

Estimated Annual Burden Hours: 500.

OMB Number: 1545-2131.

Type of Review: Revision of a previously approved collection.

Title: Form 1127—Application for Extension of Time for Payment of Tax Due to Undue Hardship.

Form: 1127.

Abstract: Under IRC 6161, individual taxpayers and business taxpayers are allowed to request an extension of time for payment of tax shown or required to be shown on a return or for a tax due on a notice of deficiency. In order to be granted this extension, they must file Form 1127, providing evidence of undue hardship, inability to borrow, and collateral to ensure payment of the tax.

Affected Public: Private Sector: Businesses or other for-profits.

Estimated Annual Burden Hours: 7,470.

Dated: October 26, 2015.
Dawn D. Wolfgang,
Treasury PRA Clearance Officer.

[FR Doc. 2015-27651 Filed 10-29-15; 8:45 am]

BILLING CODE 4830-01-P